DEPARTMENT OF THE INTERIOR

Fish and Wildlife Service

Endangered and Threatened Wildlife and Plants; Initiation of 5-Year Reviews of Seven Wildlife Species and Two Plant Species in the Mountain-Prairie Region

AGENCY: Fish and Wildlife Service, Interior.

ACTION: Notice of review; request for comments.

SUMMARY: We, the U.S. Fish and Wildlife Service (Service), initiate 5-year reviews of seven wildlife species—Canada lynx (Lynx canadensis), grizzly bear (Ursus arctos horribilis) (as listed in the lower 48-States excluding the Greater Yellowstone Area population; see table 1), bonytail chub (=bonytail) (Gila elegans), humpback chub (Gila cypha), Colorado pikeminnow (=squawfish) (Ptychocheilus lucius), razorback sucker (Xyrauchen texanus), and Uncompahgre fritillary butterfly (Boloria acrocnema); and two plant species—Howellia aquatilis (water howellia) and Astragalus desereticus (Deseret milk-vetch)—in the Mountain-Prairie Region under the Endangered Species Act of 1973, as amended (Act). We conduct 5-year reviews to ensure that our classification of each species as threatened or endangered on the List of Endangered and Threatened Wildlife and Plants is accurate. A 5-year review is an assessment of the best scientific and commercial data available at the time of the review.

DATES: To allow us adequate time to conduct our review, we must receive your information no later than June 18, 2007. However, we will continue to accept new information about any listed species at any time.

ADDRESSES: For instructions on how to submit information and review the information that we receive on these species, see “Public Solicitation of New Information.”

FOR FURTHER INFORMATION CONTACT: For species-specific information, contact the appropriate person under “Public Solicitation of New Information.”

SUPPLEMENTARY INFORMATION:

Why Do We Conduct a 5-Year Review?

Section 4(c)(2)(A) of the Act requires that we conduct a review of listed species at least once every 5 years. We are then, under section 4(c)(2)(B) and the provisions of subsections (a) and (b), to determine, on the basis of such a review, whether or not any species should be removed from the List of Endangered and Threatened Wildlife and Plants (delisted), or reclassified from endangered to threatened (downlisted), or reclassified from threatened to endangered (uplisted). The 5-year review is an assessment of the best scientific and commercial data available at the time of the review. Therefore, we are requesting submission of any new information (best scientific and commercial data) on these species since they were originally listed.

For each species, if its present classification is not consistent with the best scientific and commercial information available, we will recommend whether or not a change is warranted in the Federal classification of the species. Any change in Federal classification would require a separate rulemaking process.

Our regulations at 50 CFR 424.21 require that we publish a notice in the Federal Register announcing those species currently under active review. This notice announces our active review of the species in Table 1.

Table 1.—Summary of Listing Information, Seven Wildlife Species and Two Plant Species in the Mountain-Prairie Region
Common name | Scientific name | Status | Where listed | Final listing rule
Animals:
Bonytail chub | Gila elegans | Endangered | Entire | 45 FR 27710; 04/23/1980.
Canada lynx | Lynx canadensis | Threatened | CO, ID, ME, MI, MN, MT, NH, NY, OR, UT, VT, WA, WI, WY | 65 FR 16051; 03/24/2000.
Colorado pikeminnow | Ptychocheilus lucius | Endangered | Entire, except Salt and Verde R. drainages, AZ | 39 FR 1175; 01/04/1974.
Colorado pikeminnow | Ptychocheilus lucius | Experimental population | Salt and Verde R. drainages, AZ | 50 FR 30188; 07/24/1985.
Grizzly bear | Ursus arctos horribilis | Threatened | U.S.A., conterminous (lower 48) States* | 40 FR 31734; 07/28/1975.
Grizzly bear | Ursus arctos horribilis | Experimental population | U.S.A. (portions of ID and MT; see 50 CFR 17.84(l)) | 65 FR 69623; 11/17/2000.
Humpback chub | Gila cypha | Endangered | Entire | 39 FR 1175; 01/04/1974.
Razorback sucker | Xyrauchen texanus | Endangered | Entire | 56 FR 54957; 10/23/1991.
Uncompahgre fritillary (Butterfly) | Boloria acrocnema | Endangered | Entire | 56 FR 28712; 06/24/1991.
Plants:
Deseret milk-vetch | Astragalus desereticus | Threatened | Entire | 64 FR 56590; 10/20/1999.
Water howellia | Howellia aquatilis | Threatened | Entire | 59 FR 35860; 07/14/1994.
* U.S.A., conterminous (lower 48) States, except: (1) Where listed as an experimental population; and (2) that portion of Idaho east of Interstate Highway 15 and north of U.S. Highway 30; that portion of Montana east of Interstate Highway 15 and south of Interstate Highway 90; that portion of Wyoming south of Interstate Highway 90, west of Interstate Highway 25, Wyoming State Highway 220, and U.S. Highway 287 south of Three Forks (at the 220 and 287 intersection), and north of Interstate Highway 80 and U.S. Highway 30. See 17.40(b).

What Information Do We Consider in Our Review?

In our 5-year review, we consider all new information available at the time of the review. These reviews will consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the wildlife species Canada lynx, grizzly bear, bonytail chub, humpback chub, Colorado pikeminnow, razorback sucker, and Uncompahgre fritillary butterfly, and of the plant species Howellia aquatilis and Astragalus desereticus. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of or potential updates to recovery plans and additional actions or studies that would benefit these species in the future.

Our practice is to make comments, including names and home addresses of respondents, available for public review. Before including your address, phone number, e-mail address, or other personal identifying information in your comment, you should be aware that your entire comment—including your personal identifying information—may be made publicly available at any time. While you can ask us in your comment to withhold your personal identifying information from public review, we cannot guarantee that we will be able to do so.

Submit your comments and information on the following species to the corresponding address(es). You also may view information we receive in response to this notice and review, as well as other documentation in our files, at the following locations by appointment, during normal business hours. For more information on a species, contact the corresponding person listed below.

Canada lynx: Mark Wilson, Montana Field Supervisor, U.S. Fish and Wildlife Service, Attention: Canada lynx 5-year Review, 585 Shepard Way, Helena, Montana 59601; telephone (406) 449-5225.

Grizzly bear: Dr. Christopher Servheen, Grizzly Bear Recovery Coordinator, Attention: Grizzly Bear 5-year Review, University Hall, Room #309, University of Montana, Missoula, Montana 59812; telephone (406) 243-4903.

Bonytail chub, humpback chub, Colorado pikeminnow, and razorback sucker: Thomas E. Czapla, PhD, Upper Colorado River Endangered Fish Recovery Program, U.S. Fish and Wildlife Service, Attention: Colorado River Fish 5-year Review, P.O. Box 25486, Denver Federal Center, Denver, Colorado 80225; telephone (303) 969-7322, extension 228.

Uncompahgre fritillary butterfly: Al Pfister, Western Colorado Project Leader, U.S. Fish and Wildlife Service, Attention: Uncompahgre fritillary butterfly 5-year Review, 764 Horizon Drive, Building B, Grand Junction, Colorado 81506-3946; telephone (970) 243-2778.

Water howellia: Mark Wilson, Montana Field Supervisor, U.S. Fish and Wildlife Service, Attention: water howellia (Howellia aquatilis) 5-year Review, 585 Shepard Way, Helena, Montana 59601; telephone (406) 449-5225.

Astragalus desereticus: Larry Crist, Utah Field Supervisor, U.S. Fish and Wildlife Service, Attention: Deseret milk-vetch (Astragalus desereticus) 5-year Review, 2369 West Orton Circle, Suite 50, West Valley City, Utah 84119; telephone (801) 975-3330.

How Are These Species Currently Listed?

Table 1 gives current listing information. Also, the List of Endangered and Threatened Wildlife and Plants (List), which covers all listed species, is in 50 CFR 17.11 (wildlife) and 17.12 (plants). We amend the List by publishing final rules in the Federal Register. The List also is available on our Internet site at http://endangered.fws.gov/wildlife.html#Species.

Definitions

To help you submit information about the species being reviewed, we provide the following definitions:

(A) Species includes any species or subspecies of fish, wildlife, or plant, and any distinct population segment of any species of vertebrate, which interbreeds when mature;

(B) Endangered means any species that is in danger of extinction throughout all or a significant portion of its range; and

(C) Threatened means any species that is likely to become an endangered species within the foreseeable future throughout all or a significant portion of its range.

How Do We Determine Whether a Species Is Endangered or Threatened?

Section 4(a)(1) of the Act establishes that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Section 4(a)(1) of the Act requires that our determination be made on the basis of the best scientific and commercial data available.

What Could Happen as a Result of Our Review?

For each species under review, if we find new information that indicates a change in classification may be warranted, we may propose a new rule that could do one of the following:

(a) Reclassify the species from threatened to endangered (uplist);

(b) Reclassify the species from endangered to threatened (downlist); or

(c) Remove the species from the List (delist).

If we determine that a change in classification is not warranted, then this species will remain on the List under its current status.

Authority

This document is published under the authority of the Endangered Species Act of 1973, as amended (16 U.S.C. 1531 et seq.).

Dated: March 16, 2007.
James J. Slack,
Acting Regional Director, Denver, Colorado.

[FR Doc. E7-7342 Filed 4-17-07; 8:45 am]

BILLING CODE 4310-55-P